FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Air 7 Seas Transport Logistics, Inc. (NVO & OFF), 1815 Houret Court, Milpitas, CA 95035. Officers: Poonam Dhamija, Secretary (QI), Surya Dhamija, CEO & CFO. Application Type: QI Change.

All International Solutions Inc. (NVO), 281 E. Redondo Beach Blvd., Gardena, CA 90248. Officer: Alexis F. Robin, President (QI). Application Type: New NVO License.

BestOcean Worldwide Logistics, Inc. (NVO & OFF), 1300 Valley Vista Drive, Suite 203, Diamond Bar, CA 91765. Officers: Yuxin Wang, President (QI), Le Sun, CFO. Application Type: QI Change.

D & D Transport, Inc. (NVO & OFF), 4869 Peavey Drive, Meridian, MS 39301. Officers: Uros Pejanovic, Vice President (QI), Hartley Peavey, CEO. Application Type: New NVO & OFF License.

DCI Transport LLC (OFF), 2635 Northgate Avenue, Suite A, Cumming, GA 30041. Officers: Christie Patterson, Manager (QI), Christopher W. Purdy, Chief Executive Manager. Application Type: New OFF License.

EL Palmar International, Inc. (NVO & OFF), 9383 NW 13th Street, Miami, FL 33172. Officers: Andres E. Penalver, President (QI), Eduardo Nucete, Director. Application Type: New NVO & OFF License.

Embarque Los Hidalgos LLC (NVO & OFF), 326 Grand Street, Paterson, NJ 07501. Officers: Juan C. Santos, Manager (QI), Tito Santos, Member. Application Type: New NVO & OFF License.

Enter To USA LLC (NVO & OFF), 1553 NW 82nd Avenue, Miami, FL 33126. Officers: Julio A. Aninat, Manager (QI), Rodrigo A. Armijo, Manager. Application Type: New NVO & OFF License.

Interchez Global Services, Inc. (NVO & OFF), 600 Alpha Pkwy., Stow, OH 44224. Officers: Cassie S. McClellan, COO (QI), Sharlene Chesnes, CEO. Application Type: QI Change.

J. F. Hillebrand USA, Inc. (NVO & OFF), 1600 St. Georges Avenue, Suite 301, Rahway, NJ 07065. Officers: Linda Leonard, Vice President (QI), Jean-Jacques Francoulon, President. Application Type: Add NVO Service.

Kingz International Logistics Inc (OFF), 415 S. Yale Drive, Garland, TX 75042. Officer: Temitope Olojede, CEO (QI), Application Type: New OFF License.

P. J. Caputo Shipping Co. Inc. (OFF), One Edgewater Street, Suite 218, Staten Island, NY 10305. Officers: Peter J. Caputo, Jr., Secretary (QI), Peter J. Caputo, President. Application Type: QI Change.

Paramount Enterprises International, Inc. (OFF), 119 John Robert Thomas Drive, Exton, PA 19341. Officer: Joseph T. Walsh, President (QI). Application Type: New OFF License.

Premier Van Lines, Inc. (NVO), 2208 Harmony Grove Road, Escondido, CA 92029. Officers: Christopher R. McClenaghen, President (QI), Robert L. Berti, Vice President. Application Type: QI Change.

Starship International, Inc. (OFF), 5857 Eagle Cay Lane, Coconut Creek, FL 33073. Officer: Stella Florez, President (QI). Application Type: New OFF License.

Transnuclear, Inc. (NVO & OFF), 7135 Minstrel Way, Suite 300, Columbia, MD 21045. Officers: Michael P. Valenzano, Director, Transportation (QI), Michael McMahon, President. Application Type: QI Change.

By the Commission.
Dated: November 30, 2012.
Rachel E. Dickon,
Assistant Secretary.

[FR Doc. 2012-29450 Filed 12-5-12; 8:45 am]

BILLING CODE 6730-01-P